FEDERAL ELECTION COMMISSION

Sunshine Act Notices

AGENCY: Federal Election Commission.

Date and Time: Thursday, June 10, 2010, at 10 a.m.

Place: 999 E Street, NW., Washington, DC (Ninth Floor).

Status: this meeting will be open to the public.

Items To Be Discussed: Correction and Approval of Minutes.

Draft Advisory Opinion 2010-08: Citizens United, by its counsel, Theodore B. Olson, Esq., of Gibson, Dunn & Crutcher LLP.

Management and Administrative Matters.

Individuals who plan to attend and require special assistance, such as sign language interpretation or other reasonable accommodations, should contact Darlene Harris, Acting Commission Secretary, at (202) 694-1040, at least 72 hours prior to the hearing date.

Person to Contact for Information: Judith Ingram, Press Officer, Telephone: (202) 694-1220.

Darlene Harris,
Acting Secretary of the Commission.

[FR Doc. 2010-13980 Filed 6-10-10; 8:45 am]

BILLING CODE 6715-01-M